DEPARTMENT OF HEALTH AND HUMAN SERVICES

Indian Health Service

Request for Public Comment: 60 Day Proposed Information Collection: Indian Health Service Purchased/Referred Care Proof of Residency

AGENCY: Indian Health Service, HHS.

ACTION: Notice and request for comments.

SUMMARY: In compliance with the Paperwork Reduction Act (PRA) of 1995, which requires 60 days for public comment on proposed information collection projects, the Indian Health Service (IHS) invites the general public to take this opportunity to comment on the information collection Office of Management and Budget (OMB) Control Number 0917-XXXX, titled, Purchased/Referred Care (PRC) Proof of Residency. The purpose of this notice is to allow 60 days for public comment to be submitted directly to OMB. A copy of the draft supporting statement is available at www.regulations.gov (see Docket ID IHS_FRDOC_0001).

SUPPLEMENTARY INFORMATION: The IHS Office of Resource Access and Partnerships Division of Contract Care is submitting the proposed information collection to OMB for review, as required by the PRA. This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques of other forms of information technology, e.g., permitting electronic submission of responses.

Proposed Collection Title: 0917-XXXX, “Indian Health Service Purchased/Referred Care Proof of Residency.”

Type of Information Collection Request: This is a new information request for a three year approval of this new information collection, 0917-XXXX.

Forms: Purchase/Referred Care Proof of Residency.

Title of Proposal: Purchased/Referred Care Program.

OMB Control Number: To be assigned.

Need and Use of Information Collection: The IHS PRC Program needs this information to certify that health care services requested and authorized by the IHS have been provided to individuals who have provided documentation that meets the eligibility requirements to receive medical services from PRC provider(s); and to serve as a legal document for health and medical care authorized by the IHS and rendered by health care providers under contract with the IHS.

Agency Form Number: IHS-XXX (A form number will be assigned after approval).

Members of Affected Public: Patients.

Status of the Proposed Information Collection: New request.

Type of Respondents: Individuals.

The table below provides: Types of data collection instruments, estimation to number of respondents, number of responses per respondent, annual number of responses, average burden hour per response, and total annual burden hours.

Data collection instrument(s) | Estimated number of respondents | Responses per respondent | Annual number of responses | Average burden hour per response * | Total annual burden hours
Individual Patient Count | 77,185 | 1 | 77,185 | 3 | 3,859.25
Total | 77,185 | 1 | 77,185 | 3 | 3,859.25
* For ease of understanding, average burden hours are provided in actual minutes.

There are no direct costs, to respondents to report.

For Comments: Submit comments, requests for more information on the collection, or requests to obtain a copy of the data collection instrument and instruction to Ms. Evonne Bennett-Barnes by one of the following methods:

• Mail: Ms. Evonne Bennett-Barnes, Information Collection Clearance Officer, Indian Health Service, 5600 Fishers Lane, STOP 09E70, Rockville, MD 20857.

• Phone: (301) 443-4750.

• Email: Evonne.Bennett-Barnes@ihs.gov.

• Fax: 301-594-0899.

Comment Due Date: Your comments regarding this information collection are best assured of having full effect if received within 60 days of the date of this publication.

Dated: March 20, 2018.
Michael D. Weahkee,
Assistant Surgeon General, U.S. Public Health Service, Acting Director, Indian Health Service.

[FR Doc. 2018-06521 Filed 3-29-18; 8:45 am]

BILLING CODE 4165-16-P